DEPARTMENT OF DEFENSE

GENERAL SERVICES ADMINISTRATION

NATIONAL AERONAUTICS AND SPACE ADMINISTRATION

[OMB Control No. 9000-0010; Docket 2015-0055; Sequence 1]

Submission to OMB for Review; Federal Acquisition Regulation; Progress Payments (SF-1443)

AGENCY: Department of Defense (DOD), General Services Administration (GSA), and National Aeronautics and Space Administration (NASA).

ACTION: Notice of request for public comments regarding an extension to an existing OMB clearance.

SUMMARY: Under the provisions of the Paperwork Reduction Act of 1995, the Regulatory Secretariat will be submitting to the Office of Management and Budget (OMB) a request to review and approve an extension of a previously information collection requirement concerning progress payments. A notice was published in the Federal Register at 80 FR 6970 on February 9, 2015. No comments were received.

DATES: Submit comments on or before May 21, 2015.

ADDRESSES: Submit comments identified by Information Collection 9000-0010, Progress Payments, by any of the following methods:

• Regulations.gov: http://www.regulations.gov. Submit comments via the Federal eRulemaking portal by searching the OMB Control number 9000-0010. Select the link “Comment Now” that corresponds with “Information Collection 9000-0010, Progress Payments”. Follow the instructions provided on the screen. Please include your name, company name (if any), and “Information Collection 9000-0010, Progress Payments” on your attached document.

• Fax: 202-501-4067.

• Mail: General Services Administration, Regulatory Secretariat Division (MVCB), 1800 F Street NW., Washington, DC 20405. ATTN: Ms. Flowers/IC 9000-0010, Progress Payments.

Instructions: Please submit comments only and cite Information Collection 9000-0010, Progress Payments, in all correspondence related to this collection. All comments received will be posted without change to http://www.regulations.gov, including any personal and/or business confidential information provided.

FOR FURTHER INFORMATION CONTACT: Kathy Hopkins, Procurement Analyst, Federal Acquisition Policy Division, at 202-969-7226 or Kathlyn.hopkins@gsa.gov.

SUPPLEMENTARY INFORMATION:

A. Purpose

Certain Federal contracts provide for progress payments to be made to the contractor during performance of the contract. Pursuant to FAR clause 52.232-16 “Progress Payments,” contractors are required to request progress payments on Standard Form 1443, “Contractor's Request for Progress Payment,” or an agency approved electronic equivalent. Additionally, contractors may be required to submit reports, certificates, financial statements, and other pertinent information, reasonably requested by the Contracting Officer. The contractual requirement for submission of reports, certificates, financial statements and other pertinent information is necessary for protection of the Government against financial loss through the making of progress payments.

B. Annual Reporting Burden

Respondents: 25,161.

Responses per Respondent: 32.

Annual Responses: 805,152.

Hours per Response: .42.

Total Burden Hours: 338,164.

Time required to read and prepare information is estimated at 25.2 minutes (less than one-half hour) per completion. This downward change is attributable to productivity gains (based on data from Bureau of Labor Statistics, 1990-2013) realized through technology. The anticipated number of respondents has been reduced (from 27,000 to 25,161), as well, and is proportional to the lower number of Federal contracts overall.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

D. Obtaining Copies Of Proposals: Requesters may obtain a copy of the information collection documents from the General Services Administration, Regulatory Secretariat Division (MVCB), 1800 F Street NW., Washington, DC 20405, telephone 202-501-4755. Please cite OMB Control No. 9000-0010, Progress Payments, in all correspondence.

Dated: April 16, 2015.
Edward Loeb,
Acting Director, Office of Government-wide Acquisition Policy, Office of Acquisition Policy, Office of Government-wide Policy.

[FR Doc. 2015-09240 Filed 4-20-15; 8:45 am]

BILLING CODE 6820-EP-P